DEPARTMENT OF THE INTERIOR

National Park Service

[NPS-WASO-NAGPRA-NPS0040366; PPWOCRADN0-PCU00RP14.R50000]

Notice of Inventory Completion: Florida Department of State, Tallahassee, FL

AGENCY: National Park Service, Interior.

ACTION: Notice.

SUMMARY: In accordance with the Native American Graves Protection and Repatriation Act (NAGPRA), the Florida Department of State (FDOS) has completed an inventory of human remains and associated funerary objects and has determined that there is a cultural affiliation between the human remains and associated funerary objects and Indian Tribes or Native Hawaiian organizations in this notice.

DATES: Repatriation of the human remains and associated funerary objects in this notice may occur on or after July 16, 2025.

ADDRESSES: Send written requests for repatriation of the human remains and associated funerary objects in this notice to Tea Kaplan, Florida Department of State, 2100 W Tennessee St., Tallahassee, FL 32304, email tea.kaplan@dos.fl.gov.

SUPPLEMENTARY INFORMATION: This notice is published as part of the National Park Service's administrative responsibilities under NAGPRA. The determinations in this notice are the sole responsibility of the FDOS, and additional information on the determinations in this notice, including the results of consultation, can be found in its inventory or related records. The National Park Service is not responsible for the determinations in this notice.

Abstract of Information Available

Human remains representing, at least, three individuals have been identified. The 447 associated funerary objects are faunal remains (both worked and unaltered); worked shell artifacts; lithic artifacts including geological samples, faunal coprolites, and worked stone; and several wooden artifacts including charcoalized material, burial stakes, a mortar base, and hunting tools. Ancestral human remains and items were excavated in late 1971 by C. Clausen from the Little Salt Spring Basin and were transferred to the Florida Department of State in 1972. The remains were collected from the northeastern talus slope of the Little Salt Spring Basin from a depth ranging from eight to nine meters below surface level, as both surface collections and from underwater excavation units. Additional funerary objects collected from the spring by J. Gifford were donated to the Florida Department of State from the University of Miami in 1996. No hazardous substances are present.

Cultural Affiliation

Based on the information available and the results of consultation, cultural affiliation is reasonably identified by the geographical location or acquisition history of the human remains and associated funerary objects described in this notice.

Determinations

The FDOS has determined that:

• The human remains described in this notice represent the physical remains of three individuals of Native American ancestry.

• The 447 objects described in this notice are reasonably believed to have been placed intentionally with or near individual human remains at the time of death or later as part of the death rite or ceremony.

• There is a connection between the human remains and associated funerary objects described in this notice and the Seminole Tribe of Florida.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 16, 2025. If competing requests for repatriation are received, the FDOS must determine the most appropriate requestor prior to repatriation. Requests for joint repatriation of the human remains and associated funerary objects are considered a single request and not competing requests. The FDOS is responsible for sending a copy of this notice to the Indian Tribes and Native Hawaiian organizations identified in this notice.

Authority: Native American Graves Protection and Repatriation Act, 25 U.S.C. 3003, and the implementing regulations, 43 CFR 10.10.

Dated: June 6, 2025.
Melanie O'Brien,
Manager, National NAGPRA Program.

[FR Doc. 2025-11013 Filed 6-13-25; 8:45 am]

BILLING CODE 4312-52-P